DEPARTMENT OF THE INTERIOR

National Park Service

[NPS-WASO-NAGPRA-NPS0025914; PPWOCRADN0-PCU00RP14.R50000]

Notice of Inventory Completion: New York University College of Dentistry, New York City, NY

AGENCY: National Park Service, Interior.

ACTION: Notice.

SUMMARY: The New York University (NYU) College of Dentistry has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the NYU College of Dentistry. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the NYU College of Dentistry at the address in this notice by September 7, 2018.

ADDRESSES: Dr. Louis Terracio, NYU College of Dentistry, 345 East 24th Street, New York, NY 10010, telephone (212) 998-9717, email louis.terracio@nyu.edu.

SUPPLEMENTARY INFORMATION: Notice is here given in accordance with the Native American Graves Protection and Repatriation Act (NAGPRA), 25 U.S.C. 3003, of the completion of an inventory of human remains under the control of the NYU College of Dentistry, New York City, NY. The human remains were removed from Shinnecock Hills, Suffolk County, Long Island, NY.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the NYU College of Dentistry professional staff in consultation with representatives of the Delaware Nation, Oklahoma; Delaware Tribe of Indians; Shinnecock Indian Nation; and Stockbridge Munsee Community, Wisconsin.

History and Description of the Remains

At an unknown date, human remains representing, at minimum, one individual were removed from an unknown site in Shinnecock Hills, Suffolk County, NY. In 1926, the town of Southampton donated the human remains, which consist of the cranial fragments of one adult, to the Museum of the American Indian, Heye Foundation. They were accessioned into the collection of the Department of Physical Anthropology of the Museum of the American Indian, Heye Foundation that same year. In 1956, the human remains were transferred to Dr. Theodore Kazamiroff, NYU College of Dentistry. No known individuals were identified. No associated funerary objects are present. The age of the human remains cannot be determined from the available information. Forensic examination revealed diagnostic features of an individual with Native American ancestry. Without any information about the site or age of the remains, no identifiable earlier group can be determined.

Shinnecock Hills, which lies near the northeastern end of Long Island, is not included in any treaties, Acts of Congress, or Executive Orders that establish aboriginal land. The area is, however, within territory that was long recognized by the tribe, the town of Southampton, and the state of New York as Shinnecock land. In 1703, the Shinnecock and town of Southampton reached an agreement in which the Shinnecock held a 1,000 year lease of approximately 3,500 acres, including Shinnecock Hills. The area was subsequently referred to as the Shinnecock Reservation in various state and local documents. The Shinnecock renegotiated their lease in 1859 and relinquished the lands at Shinnecock Hills in exchange for fee title to the land at Shinnecock Neck. The current Shinnecock Reservation, which no longer includes Shinnecock Hills, was placed into trust after the tribe was federally recognized in 2010. The Department of Interior proposed finding on the Shinnecock petition for federal recognition identifies Shinnecock Hills as part of the pre-1859 Shinnecock Reservation.

Determinations Made by the NYU College of Dentistry

Officials of the NYU College of Dentistry have determined that:

• Pursuant to 25 U.S.C. 3001(9), the human remains described in this notice are Native American based on diagnostic cranial features observed during forensic examination.

• Pursuant to 25 U.S.C. 3001(9), the human remains described in this notice represent the physical remains of one individual of Native American ancestry.

• Pursuant to 25 U.S.C. 3001(2), a relationship of shared group identity cannot be reasonably traced between the Native American human remains and any present-day Indian Tribe.

• Authoritative governmental documents, including the Shinnecock Indian Nation's federal recognition decision, state agreements, and local property records indicate that the land from which the Native American human remains were removed is the aboriginal land of the Shinnecock Indian Nation.

• Pursuant to 43 CFR 10.11(c)(1), the disposition of the human remains may be to the Shinnecock Indian Nation.

Additional Requestors and Disposition

Representatives of any Indian Tribe or Native Hawaiian organization not identified in this notice that wish to request transfer of control of these human remains should submit a written request with information in support of the request to Dr. Louis Terracio, NYU College of Dentistry, 345 East 24th Street, New York, NY 10010, telephone (212) 998-9717, email louis.terracio@nyu.edu, by September 7, 2018. After that date, if no additional requestors have come forward, transfer of control of the human remains to the Shinnecock Indian Nation may proceed.

The NYU College of Dentistry is responsible for notifying the Shinnecock Indian Nation that this notice has been published.

Dated: June 29, 2018.
Melanie O'Brien,
Manager, National NAGPRA Program.

[FR Doc. 2018-16920 Filed 8-7-18; 8:45 am]

BILLING CODE 4312-52-P